NUCLEAR REGULATORY COMMISSION

[Docket No. 72-8]

Calvert Cliffs Nuclear Power Plant; Notice of Docketing of the Materials License SNM-2505 Amendment Application for the Calvert Cliffs Independent Spent Fuel Storage Installation

By letter dated December 12, 2003, Calvert Cliffs Nuclear Power Plant, Inc. (CCNPP), submitted an application to the Nuclear Regulatory Commission (NRC or the Commission) in accordance with 10 CFR part 72 requesting an amendment of the Calvert Cliffs independent spent fuel storage installation (ISFSI) license (SNM-2505) for the ISFSI located in Calvert County, Maryland. CCNPP is requesting Commission approval to amend SNM-2505 to add the NUHOMS-32P as an optional design to the existing NUHOMS-24P design for dry storage of spent nuclear fuel.

This application was docketed under 10 CFR part 72; the ISFSI Docket No. is 72-8 and will remain the same for this action. The amendment of an ISFSI license is subject to the Commission's approval.

The Commission may issue either a notice of hearing or a notice of proposed action and opportunity for hearing in accordance with 10 CFR 72.46(b)(1) or, if a determination is made that the amendment does not present a genuine issue as to whether public health and safety will be significantly affected, take immediate action on the amendment in accordance with 10 CFR 72.46(b)(2) and provide notice of the action taken and an opportunity for interested persons to request a hearing on whether the action should be rescinded or modified.

For further details with respect to this amendment, see the application dated December 12, 2003, which is publically available in the records component of NRC's Agencywide Documents Access and Management System (ADAMS). The NRC maintains ADAMS, which provides text and image files of NRC's public documents. These documents may be accessed through the NRC's Public Electronic Reading Room on the Internet at http://www.nrc.gov/reading-rm/adams.html. If you do not have access to ADAMS or if there are problems in accessing the documents located in ADAMS, contact the NRC Public Document Room (PDR) Reference staff at 1-800-397-4209, 301-415-4737 or by e-mail to pdr@nrc.gov.

Dated at Rockville, Maryland, this 26th day of February, 2004.
For the Nuclear Regulatory Commission.
Stephen C. O'Connor,
Sr. Project Manager, Spent Fuel Project Office, Office of Nuclear Material Safety and Safeguards.

[FR Doc. 04-4918 Filed 3-4-04; 8:45 am]

BILLING CODE 7590-01-P